DEPARTMENT OF ENERGY

Federal Energy Regulatory Commission

Notice of Commission Staff Attendance

The Federal Energy Regulatory Commission (Commission) hereby gives notice that members of the Commission's staff may attend the following meeting related to the transmission planning activities of the Southern Company Services, Inc. and the Midwest Independent Transmission System Operator, Inc.:

Midwest Independent Transmission System Operator, Inc. and the Southeastern Regional Transmission Planning (SERTP) Process Order No. 1000 Interregional Coordination Workshop

June 21, 2013, 10:00 a.m.-12:00 p.m., Local Time

The above-referenced meeting will be via web conference.

The above-referenced meeting is open to stakeholders.

Further information may be found at: www.misoenergy.org.

The discussions at the meeting described above may address matters at issue in the following proceedings:

Docket No. ER13-908, Alabama Power Company et al.

Docket No. ER13-913, Ohio Valley Electric Corporation.

Docket No. ER13-897, Louisville Gas and Electric Company and Kentucky Utilities Company.

Docket No. ER13-1221, Mississippi Power Company.

Docket No. EL05-121, PJM Interconnection, L.L.C.

Docket No. EL10-52, Central Transmission, L.L.C. v. PJM Interconnection, L.L.C.

Docket No. ER09-1256, Potomac-Appalachian Transmission Highline, L.L.C.

Docket Nos. ER10-253 and EL10-14, Primary Power, L.L.C.

Docket Nos. ER11-2814 and ER11-2815, PJM Interconnection, L.L.C. and American Transmission Systems, Inc.

Docket No. EL12-69, Primary Power LLC v. PJM Interconnection, L.L.C.

Docket No. ER12-91, PJM Interconnection, L.L.C.

Docket No. ER12-92, PJM Interconnection, L.L.C., et al.

Docket No. ER12-1178, PJM Interconnection, L.L.C.

Docket No. ER12-2399, PJM Interconnection, L.L.C.

Docket No. ER12-2708, PJM Interconnection, L.L.C.

Docket No. ER13-90, Public Service Electric and Gas Company and PJM Interconnection, L.L.C.

Docket No. ER13-195, Indicated PJM Transmission Owners.

Docket No. ER13-198, PJM Interconnection, L.L.C.

Docket No. ER13-1033, Linden VFT, LLC and PJM Interconnection, L.L.C.

Docket Nos. ER13-1177, 1178 and 1179, PJM Interconnection, L.L.C. and Eastern Kentucky Power Cooperative, Inc.

Docket No. ER11-1844, Midwest Independent Transmission System Operator, Inc.

Docket No. ER11-4081, Midwest Independent Transmission System Operator, Inc.

Docket No. ER12-480, Midwest Independent Transmission System Operator, Inc.

Docket No. ER13-708, Midwest Independent Transmission System Operator, Inc.

Docket No. ER13-186, Midwest Independent Transmission System Operator, Inc. and the MISO Transmission Owners.

Docket No. ER13-187, Midwest Independent Transmission System Operator, Inc. and the MISO Transmission Owners.

Docket No. ER13-89, MidAmerican Energy Company and Midwest Independent Transmission System Operator, Inc.

Docket No. ER13-101, American Transmission Company LLC and the Midwest Independent Transmission System Operator, Inc.

Docket No. ER13-84, Cleco Power LLC.

Docket No. ER13-95, Entergy Arkansas, Inc.

Docket No. ER13-80, Tampa Electric Company.

Docket No. ER13-86, Florida Power Corporation.

Docket No. ER13-104, Florida Power & Light Company.

Docket No. NJ13-2, Orlando Utilities Commission.

Docket Nos. ER13-366 and ER13-367, Southwest Power Pool, Inc.

Docket No. ER13-83, Duke Energy Carolinas LLC and Carolina Power & Light Company.

Docket No. ER13-88, Alcoa Power Generating, Inc.

Docket No. ER13-107, South Carolina Electric & Gas Company.

For more information, contact Valerie Martin, Office of Energy Market Regulation, Federal Energy Regulatory Commission at (202) 502-6139 or Valerie.Martin@ferc.gov.

Dated: June 13, 2013.
Kimberly D. Bose,
Secretary.

[FR Doc. 2013-14734 Filed 6-19-13; 8:45 am]

BILLING CODE 6717-01-P